DEPARTMENT OF DEFENSE

Office of the Secretary

[Docket ID DoD-2022-OS-0053]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by October 26, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Collection of Required Data Elements to Verify Eligibility; OMB Control Number 0704-0545.

Type of Request: Revision.

Number of Respondents: 50,000.

Responses per Respondent: 1.

Annual Responses: 50,000.

Average Burden per Response: 5 minutes.

Annual Burden Hours: 4,166.7 hours

Needs and Uses: Defense Manpower Data Center (DMDC) has implemented the Office of Personnel Management (OPM) Verification portal to provide a self-service, easy to use, navigable public facing website that allows individuals potentially impacted by the OPM data breach to securely provide personal identifiable information in order to investigate their eligibility for credit monitoring as a result of being affected by the OPM background investigation data breach without calling a Government call center. The information collected will be used only to verify whether an individual was impacted by the OPM cybersecurity incident involving background investigation records and to send a letter confirming status as “impacted” or “not impacted” by this incident. Once the minimally required information has been entered into the OPM Verification portal, it will be compared to an electronic master file and verification will be accomplished electronically. After the Government has validated the individual's status, the DMDC will generate and mail a response letter. This letter will either confirm eligibility and contain a pin for impacted individuals, or confirm that the individual was not impacted by this cybersecurity incident.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 20, 2022.
Aaron T. Siegel,
Alternate OSD Federal Register Liaison Officer, Department of Defense.

[FR Doc. 2022-20712 Filed 9-23-22; 8:45 am]

BILLING CODE 5001-06-P